NATIONAL FOUNDATION ON THE ARTS AND HUMANITIES

Proposed Collection, Comment Request, Youth Development Services Grant Analysis

AGENCY: Institute of Museum and Library Services.

ACTION: Notice, request for comments, collection of information.

SUMMARY: The Institute of Museum and Library Services as part of its continuing effort to reduce paperwork and respondent burden, conducts a preclearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the proposed study of museums and libraries providing youth development services under grants funded by IMLS.

A copy of the proposed information collection request can be obtained by contacting the individual listed below in the addressee section of this notice.

DATES: Written comments must be submitted to the office listed in the addressee section below on or before November 28, 2005. IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Dr. Mary Downs, Research Officer, Institute of Museum and Library Services, 1800 M St., NW., Washington, DC 20036. Telephone: 202-653-4682, Fax: 202-653-4625 or by e-mail at mdowns@imls.gov.

SUPPLEMENTARY INFORMATION:

I. Background

The Institute of Museum and Library Services is an independent Federal grant-making agency authorized by the Museum and Library Services Act, Public Law 1104-208. The IMLS provides a variety of grant programs to assist the nation's museums and libraries in improving their operations and enhancing their services to the public. Museums and libraries of all sizes and types may receive support from IMLS programs. The Museum and Library Services Act of 2003 includes a strong emphasis on supporting museums and libraries to carry out their educational role as core providers of learning and in conjunction with schools, families and communities. This solicitation is to develop plans to collect information to assist IMLS in understanding the needs and trends of museums and libraries, as well as the impact and effectiveness of museum and library programs that provide services to America's youth.

II. Current Actions

The Institute of Museum and Library Services, in accordance with the Museum and Library Services Act of 2003, is authorized to identify needs and trends of museum and library services, report on the impact and effectiveness, and identify best practices of programs conducted with funds made available by the Institute. Current research initiatives include analysis of grants made to museums and libraries in the area of youth development services between 1997 and 2003 to identify needs, trends, and exemplary practices, and to gain an understanding of the outcomes of such grants. A survey will be undertaken to solicit information from past grantees about the results of their programs. A small number of these grantees will be interviewed by phone. These information collections will be developed based on what is needed to undertake an analysis and case studies of grant results. The information IMLS collects will build on, but not duplicate existing or ongoing collections.

Agency: Institute of Museum and Library Services.

Title: Youth Development Grants Survey.

OMB Number: n/a.

Agency Number: 3137.

Frequency: One time.

Affected Public: Museums, libraries and archives.

Number of Respondents: 600.

Estimated Time Per Respondent: 30 minutes.

Total Burden Hours: 300.

Total Annualized capital/startup costs: 0.

Total Annual costs: 0.

FOR FURTHER INFORMATION CONTACT: Dr. Mary Downs, Research Officer, Officer of Research and Technology, Institute of Museum and Library Services, 1800 M St., NW., Washington, DC 20036, e-mail: mdowns@imls.gov or telephone (202) 653-4682.

Dated: September 23, 2005.
Rebecca Danvers,
Director, Office of Research and Technology.

[FR Doc. 05-19423 Filed 9-28-05; 8:45 am]

BILLING CODE 7036-01-M